DEPARTMENT OF DEFENSE

Office of the Secretary of Defense

Renewal of Department of Defense Federal Advisory Committees

AGENCY: DoD.

ACTION: Renewal of Federal Advisory Committee.

SUMMARY: Under the provisions of the Federal Advisory Committee Act of 1972, (5 U.S.C. Appendix, as amended), the Sunshine in the Government Act of 1976 (5 U.S.C. 552b, as amended), and 41 CFR 102-3.65, the Department of Defense gives notice that the charter for the Board of Advisors to the President, Naval Postgraduate School (hereafter referred to as the Board) is being renewed.

The Board is a discretionary federal advisory committee established by the Secretary of Defense, pursuant to his authority in 41 CFR 102-3.50(d), to provide independent advice and recommendations on organization management, curricula, methods of instruction, facilities, and other matters of interest to Naval Graduate Education Programs.

The Board shall be composed of not more than nineteen members, who are eminent authorities in the filed of academia, business, and the defense industry. Board Members appointed by the Secretary of Defense, who are not full-time federal officers or employees, shall serve as Special Government Employees under the authority of 5 U.S.C. 3109. Board Members shall, with the exception of travel and per diem for official travel, serve without compensation.

Board Members shall be appointed on an annual basis by the Secretary of Defense and shall serve terms of four years. Following their initial four-year tour, Board Members may, at the discretion of the President Naval Postgraduate School, be considered for additional terms on the Board. The Board's Membership shall select the Board's Chairperson, who shall serve a two-year term. The Board's Chairperson shall select the Board's Vice Chairperson.

The Secretary of the Navy or designated representative may act upon the Board's advice and recommendations.

The Board shall be authorized to establish subcommittees, as necessary and consistent with its mission, and these subcommittees or working groups shall operate under the provisions of the Federal Advisory Committee Act of 1972, the Sunshine in the Government Act of 1976, and other appropriate federal regulations.

Such subcommittees or workgroups shall not work independently of the chartered Board, and shall report all their recommendations and advice to the Board for full deliberation and discussion. Subcommittees or workgroups have no authority to make decisions on behalf of the chartered Board nor can they report directly to the Department of Defense or any federal officers or employees who are not Board Members.

SUPPLEMENTARY INFORMATION: The Board shall meet at the call of the Board's Designated Federal Officer, in consultation with the Board's Chairperson and the President Naval Postgraduate School. The Designated Federal Officer, pursuant to DoD policy, shall be a full-time or permanent part-time DoD employee, and shall be appointed in accordance with established DoD policies and procedures. The Designated Federal Officer or duly appointed Alternate Designated Federal Officer shall attend all committee meetings and subcommittee meetings.

Pursuant to 41 CFR 102-3.105(j) and 102-3.140, the public or interested organizations may submit written statements to the Board of Advisors to the President, Naval Postgraduate School membership about the Board's mission and functions. Written statements may be submitted at any time or in response to the stated agenda of planned meeting of the Board of Advisors to the President, Naval Postgraduate School.

All written statements shall be submitted to the Designated Federal Officer for the Board of Advisors to the President, Naval Postgraduate School, and this individual will ensure that the written statements are provided to the membership for their consideration. Contact information for the Board of Advisors to the President, Naval Postgraduate School's Designated Federal Officer can be obtained from the GSA's FACA Database— https://www.fido.gov/facadatabase/public.asp.

The Designated Federal Officer, pursuant to 41 CFR 102-3.150, will announce planned meetings of the Board of Advisors to the President, Naval Postgraduate School. The Designated Federal Officer, at that time, may provide additional guidance on the submission of written statements that are in response to the stated agenda for the planned meeting in question.

FOR FURTHER INFORMATION CONTACT: Jim Freeman, Deputy Committee Management Officer for the Department of Defense, 703-601-2554, extension 128.

Dated: February 19, 2008.
L.M. Bynum,
Alternate OSD Federal Register Liaison Officer, Department of Defense.

[FR Doc. E8-3482 Filed 2-25-08; 8:45 am]

BILLING CODE 5001-06-P